DEPARTMENT OF THE INTERIOR

National Park Service

[NPS-WASO-NAGPRA-17918; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by May 28, 2015.

ADDRESSES: Peter Lape, Burke Museum, University of Washington, Box 353010, Seattle, WA 98195, telephone (206) 685-3849 x2, plape@uw.edu.

SUPPLEMENTARY INFORMATION: Notice is here given in accordance with the Native American Graves Protection and Repatriation Act (NAGPRA), 25 U.S.C. 3003, of the completion of an inventory of human remains under the control of the Burke Museum, University of Washington, Seattle, WA. The human remains were removed from Eliza Island, Whatcom County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Lummi Tribe of the Lummi Reservation; the Nooksack Indian Tribe; and the Samish Indian Nation (previously listed as the Samish Indian Tribe, Washington).

History and Description of the Remains

In 1964, human remains representing, at minimum, one individual were removed from 45-WH-61 on Eliza Island, Whatcom County, WA. These remains were found by Richard C. Anderson of Eastgate Realty Company while bulldozing for a runway on Eliza Island. The remains were brought to the Burke Museum for identification and then donated to the museum in 1965 (Burke Accn. #1965-27). No known individuals were identified. No funerary objects are present.

The human remains have been determined to be Native American based on osteological and archeological evidence. Site 45-WH-61is a pre-contact shell midden site on Eliza Island, a small island located less than a mile to the east of Lummi Island in Whatcom County, WA. Historical and anthropological sources state that Eliza Island is within the traditional territory of the Lummi (Amoss 1978, Stern 1934, Suttles 1951, and Termaine 1975). Lummi Island was determined by the Indian Claims Commission to be within the aboriginal territory of the Lummi. The Lummi were signatories to the 1855 Point Elliot Treaty and today are represented by the Lummi Tribe of the Lummi Reservation.

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and the Lummi Tribe of the Lummi Reservation.

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849 x2, plape@uw.edu, by May 28, 2015. After that date, if no additional requestors have come forward, transfer of control of the human remains to the Lummi Tribe of the Lummi Reservation may proceed.

The Burke Museum is responsible for notifying the Lummi Tribe of the Lummi Reservation; the Nooksack Indian Tribe; and the Samish Indian Nation (previously listed as the Samish Indian Tribe, Washington) that this notice has been published.

Dated: February 26, 2015.
Melanie O'Brien,
Acting Manager, National NAGPRA Program.

[FR Doc. 2015-09900 Filed 4-27-15; 8:45 am]

BILLING CODE 4312-50-P